DEPARTMENT OF JUSTICE

Notice of Lodging of Proposed Joint Stipulation To Modify Consent Decree Under the Clean Air Act

On December 16, 2015, the Department of Justice lodged a proposed Joint Stipulation to Modify Consent Decree (Joint Stipulation) with the United States District Court for the Southern District of Indiana in the lawsuit entitled United States v. Southern Indiana Gas & Electric Company, Civil Action No. IP99-1692 C-M/F.

The proposed Joint Stipulation will modify a Consent Decree entered on August 13, 2003, which resolved Clean Air Act (CAA) claims of Plaintiff, the United States of America, against Defendant, Southern Indiana Gas & Electric Company (SIGECO), at its F.B. Culley Generating Station (Culley Station) in Newburgh, Indiana. Under the proposed Joint Stipulation, SIGECO has agreed, among other things, to construct and permanently operate sorbent injection systems at both Culley Station and its nearby A.B. Brown Generating Station to mitigate sulfuric acid emissions and meet specified emission limits at those plants. The proposed stipulation also resolves a CAA Notice of Violation issued to SIGECO by the United States Environmental Protection Agency (EPA) on November 7, 2011.

The publication of this notice opens a period for public comment on the Joint Stipulation. Comments should be addressed to the Assistant Attorney General, Environment and Natural Resources Division, and should refer to United States v. Southern Indiana Gas & Electric Company, D.J. Ref. No. 90-5-2-1-06966. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Joint Stipulation may be examined and downloaded at this Justice Department Web site: http://www.justice.gov/enrd/consent-decrees. The original 2003 Consent Decree may be examined and downloaded at EPA's Web site: http://www.epa.gov/enforcement/southern-indiana-gas-and-electric-company-sigeco-fb-culley-plant-clean-air-act-caa.

We will provide a paper copy of the Joint Stipulation upon written request and payment of reproduction costs. Please mail your request and payment to: Consent Decree Library, U.S. DOJ—ENRD, P.O. Box 7611, Washington, DC 20044-7611.

Please enclose a check or money order for $3.50 (25 cents per page reproduction cost) payable to the United States Treasury.

Maureen Katz,
Assistant Section Chief, Environmental Enforcement Section, Environment and Natural Resources Division.

[FR Doc. 2015-32299 Filed 12-22-15; 8:45 am]

BILLING CODE 4410-15-P